DEPARTMENT OF COMMERCE

International Trade Administration

[A-570-947; C-570-948]

Certain Steel Grating From the People's Republic of China: Continuation of the Antidumping Duty Order and Countervailing Duty Order

AGENCY: Enforcement and Compliance, International Trade Administration, Department of Commerce.

SUMMARY: The Department of Commerce (the Department) and the International Trade Commission (the ITC) have determined that revocation of the antidumping duty (AD) order on certain steel grating (steel grating) from the People's Republic of China (PRC) would likely lead to continuation or recurrence of dumping and material injury to an industry in the United States. The Department and the ITC have also determined that revocation of the countervailing duty (CVD) order on steel grating from the PRC would likely lead to continuation or recurrence of net countervailable subsidies and material injury to an industry in the United States. Therefore, the Department is publishing a notice of continuation for these AD and CVD orders.

DATES: Effective Date: November 12, 2015.

FOR FURTHER INFORMATION CONTACT: Erin Kearney (AD Order), AD/CVD Operations, Office IV, or Toni Page (CVD Order), AD/CVD Operations, Office VII, Enforcement and Compliance, International Trade Administration, U.S. Department of Commerce, 14th Street and Constitution Avenue NW., Washington, DC 20230; telephone: (202) 482-0167 or (202) 482-1398, respectively.

SUPPLEMENTARY INFORMATION:

Background

On June 1, 2015, the Department initiated ¹ and the ITC instituted ² five-year (sunset) reviews of the AD and CVD orders on steel grating from the PRC,³ pursuant to section 751(c) of the Tariff Act of 1930, as amended (the Act). As a result of its reviews, the Department determined that revocation of the AD order would likely lead to continuation or recurrence of dumping and that revocation of the CVD order would likely lead to continuation or recurrence of net countervailable subsidies. Therefore, the Department notified the ITC of the magnitude of the margins and the subsidy rates likely to prevail should the orders be revoked, pursuant to sections 751(c)(1) and 752(b) and (c) of the Act.⁴

¹ See Initiation of Five-Year (“Sunset”) Review, 80 FR 31012 (June 1, 2015).

² See Certain Steel Grating From China; Institution of Five-Year Reviews, 80 FR 31071 (June 1, 2015).

³ See Certain Steel Grating from the People's Republic of China: Antidumping Duty Order, 75 FR 43143 (July 23, 2010); and Certain Steel Grating from the People's Republic of China: Countervailing Duty Order, 75 FR 43144 (July 23, 2010).

⁴ See Certain Steel Grating From the People's Republic of China: Final Results of the Expedited First Sunset Review of the Antidumping Duty Order, 80 FR 60119 (October 5, 2015), and Certain Steel Grating From the People's Republic of China: Final Results of Expedited First Sunset Review of the Countervailing Duty Order, 80 FR 60120 (October 5, 2015).

On November 4, 2015, the ITC published its determination that revocation of the AD and CVD orders on steel grating from the PRC would likely lead to continuation or recurrence of material injury to an industry in the United States within a reasonably foreseeable time, pursuant to section 751(c) of the Act.⁵

⁵ See Certain Steel Grating From the People's Republic of China, 80 FR 68334 (November 4, 2015).

Scope of the Orders

The products covered by these orders are certain steel grating, consisting of two or more pieces of steel, including load-bearing pieces and cross pieces, joined by any assembly process, regardless of: (1) Size or shape; (2) method of manufacture; (3) metallurgy (carbon, alloy, or stainless); (4) the profile of the bars; and (5) whether or not they are galvanized, painted, coated, clad or plated. Steel grating is also commonly referred to as “bar grating,” although the components may consist of steel other than bars, such as hot-rolled sheet, plate, or wire rod.

The scope of the orders excludes expanded metal grating, which is comprised of a single piece or coil of sheet or thin plate steel that has been slit and expanded, and does not involve welding or joining of multiple pieces of steel. The scope of the orders also excludes plank type safety grating which is comprised of a single piece or coil of sheet or thin plate steel, typically in thickness of 10 to 18 gauge, that has been pierced and cold formed, and does not involve welding or joining of multiple pieces of steel.

Certain steel grating that is the subject of the orders is currently classifiable in the Harmonized Tariff Schedule of the United States (HTSUS) under subheading 7308.90.7000. While the HTSUS subheading is provided for convenience and customs purposes, the written description of the scope of the orders is dispositive.

Continuation of the Orders

As a result of the determinations by the Department and the ITC that revocation of the AD order would likely lead to a continuation or recurrence of dumping and material injury to an industry in the United States, and revocation of the CVD order would likely lead to continuation or recurrence of countervailable subsidies and material injury to an industry in the United States, pursuant to section 751(d)(2) of the Act and 19 CFR 351.218(a), the Department hereby orders the continuation of the AD and CVD orders on steel grating from the PRC. U.S. Customs and Border Protection will continue to collect AD and CVD cash deposits at the rates in effect at the time of entry for all imports of subject merchandise.

The effective date of the continuation of the AD and CVD orders will be the date of publication in the Federal Register of this notice of continuation. Pursuant to section 751(c)(2) of the Act and 19 CFR 351.218(c)(2), the Department intends to initiate the next five-year review of these orders not later than 30 days prior to the fifth anniversary of the effective date of this continuation notice.

These five-year sunset reviews and this notice are in accordance with sections 751(c) and 751(d)(2) of the Act and published pursuant to section 777(i)(1) of the Act and 19 CFR 351.218(f)(4).

Dated: November 5, 2015.
Paul Piquado,
Assistant Secretary for Enforcement and Compliance.

[FR Doc. 2015-28755 Filed 11-10-15; 8:45 am]

BILLING CODE 3510-DS-P